DEPARTMENT OF HEALTH AND HUMAN SERVICES

National Institutes of Health

Submission for OMB Review; 30-Day Comment Request: A National Survey of Nurse Coaches (NIH Clinical Center)

AGENCY: National Institutes of Health.

ACTION: Notice.

SUMMARY: In compliance with the Paperwork Reduction Act of 1995, the National Institutes of Health (NIH) has submitted to the Office of Management and Budget (OMB) a request for review and approval of the information collection listed below. This proposed information collection was previously published in the Federal Register on August 22, 2016, pages 56668-9 (81 FR 56668) and allowed 60-days for public comment. No public comments were received. The purpose of this notice is to allow an additional 30 days for public comment.

DATES: Comments regarding this information collection are best assured of having their full effect if received by December 19, 2016.

ADDRESSES: Written comments and/or suggestions regarding the item(s) contained in this notice, especially regarding the estimated public burden and associated response time, should be directed to the: Office of Management and Budget, Office of Regulatory Affairs, OIRA_submission@omb.eop.gov or by fax to 202-395-6974, Attention: Desk Officer for NIH.

FOR FURTHER INFORMATION CONTACT: To request more information on the proposed project or to obtain a copy of the data collection plans and instruments, contact: Dr. Alyson Ross, Nurse Researcher, Department of Nursing Research and Translational Science, NIH Clinical Center, Building 10, Room 2B07, MSC-1151, Bethesda, Maryland, 20892 or call non-toll-free number (301) 451-8338 or Email your request, including your address to: Alyson.ross@nih.gov. Formal requests for additional plans and instruments must be requested in writing.

SUPPLEMENTARY INFORMATION: The NIH Clinical Center, National Institutes of Health, may not conduct or sponsor, and the respondent is not required to respond to, an information collection that has been extended, revised, or implemented on or after October 1, 1995, unless it displays a currently valid OMB control number.

In compliance with Section 3507(a)(1)(D) of the Paperwork Reduction Act of 1995, the National Institutes of Health (NIH) has submitted to the Office of Management and Budget (OMB) a request for review and approval of the information collection listed below.

Proposed Collection: A National Survey of Nurse Coaches, 0925-NEW, National Institutes of Health Clinical Center (NIHCC), National Institutes of Health (NIH).

Need and Use of Information Collection: The purpose of this survey is to describe the role of Certified Nurse Coaches in order to gain insight into their clinical practice including: The settings in which they work, the types of clients/health conditions they see, the types of client records maintained and outcomes followed, as well as the personal benefits experienced by nurse coaches as a result of becoming a nurse coach. It provides information regarding two areas of interest to the Department of Nursing Research and Translational Science: The collection of patient-reported outcomes in novel clinical practice areas and the physical and psychosocial benefits of an intervention in nurses, a professional caregiver population. This study will provide preliminary data and guidance in: (1) Developing recommendations for collecting outcomes to longitudinally assess the effectiveness nurse coaching, and (2) developing an intervention to improve patient care and patient satisfaction targeting the nursing staff at the NIH Clinical Center.

OMB approval is requested for 1 year. There are no costs to respondents other than their time. The total estimated annualized burden hours are 104.

Estimated Annualized Burden Hours
Type of respondent | Number of respondents | Number of responses per respondent | Average time per response (in hours) | Total annual burden hours
Certified Nurse Coaches | 250 | 1 | 25/60 | 104
Total | 250 | 250 |  | 104

Dated: November 9, 2016.
Laura M. Lee,
Project Clearance Liaison, NIH Clinical Center, National Institutes of Health.

[FR Doc. 2016-27839 Filed 11-17-16; 8:45 am]

BILLING CODE 4140-01-P